DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for licensing by the Department of the Navy. U.S. Patent No. 6,787,885 entitled “Improved Low Temperature Hydrophobic Direct Wafer Bonding,” Navy Case No. 83,684; U.S. Patent Application Serial No. 10/353,952 entitled “Microwave-Attenuating Composite Materials, Methods for Preparing the Same, Intermediates for Preparing the Same, Devices Containing the Same, Methods for Preparing Such a Device, and Methods of Attenuation Microwaves, Navy Case No. 83,273 and Navy Case No. 96,792 entitled “Sheath Flow Method and Apparatus for Laminar Flow Systems” and any continuations, continuations in part, divisionals or re-issues thereof.

ADDRESSES: Requests for copies of the inventions cited should be directed to the Naval Research Laboratory, Code 1004, 4555 Overlook Avenue, SW., Washington, DC 20375-5320, and must include the Navy Case number.

FOR FURTHER INFORMATION CONTACT: Jane F. Kuhl, Head, Technology Transfer Office, NRL Code 1004, 4555 Overlook Ave., SW., Washington, DC 20375-5320, tel. 202-767-3083. Due to temporary U.S. Postal Service delays, please fax 202-404-7920, E-Mail: kuhl@utopia.nrl.navy.mil or use courier delivery to expedite response.

Authority: 35 U.S.C. 207, 37 CFR Part 404.

Dated: June 30, 2005.
I.C. Le Moyne Jr.
Lieutenant, Judge Advocate General's Corps, U.S. Navy, Alternate Federal Register Liaison Officer.

[FR Doc. 05-13429 Filed 7-7-05; 8:45 am]

BILLING CODE 3810-FF-P